ENVIRONMENTAL PROTECTION AGENCY

40 CFR Part 52

[EPA-R03-OAR-2017-0342; FRL-9971-93-Region 3]

Approval and Promulgation of Air Quality Implementation Plans; Pennsylvania; Pennsylvania's Adoption of Control Techniques Guidelines for Automobile and Light-Duty Truck Assembly Coatings; Withdrawal of Direct Final Rule

AGENCY: Environmental Protection Agency (EPA).

ACTION: Withdrawal of direct final rule.

SUMMARY: Due to receipt of adverse comment, the Environmental Protection Agency (EPA) is withdrawing the direct final rule published on Tuesday, October 24, 2017 to approve revisions to the Pennsylvania state implementation plan (SIP) pertaining to the addition of new regulations to address the requirement to adopt reasonably available control technology (RACT) for sources covered by EPA's control techniques guidelines (CTG) for automobile and light-duty truck assembly coatings.

DATES: The direct final rule published at 82 FR 49128, on October 24, 2017, is withdrawn as of December 13, 2017.

FOR FURTHER INFORMATION CONTACT: Joseph Schulingkamp, (215) 814-2021, or by email at schulingkamp.joseph@epa.gov.

SUPPLEMENTARY INFORMATION: On November 18, 2016, the Commonwealth of Pennsylvania, through the Pennsylvania Department of Environmental Protection (PADEP), submitted a formal revision to the Pennsylvania SIP. The SIP revision consists of the adoption of EPA's CTG for automobile and light duty assembly coatings. In the direct final rule published on October 24, 2017 (82 FR 49128), EPA stated that if EPA received adverse comments by November 24, 2017, the rule would be withdrawn and not take effect. EPA subsequently received adverse comments from anonymous commenters.

Because adverse comments were received, EPA is withdrawing the direct final rule promulgated by EPA on October 24, 2017 (82 FR 49128) approving the revision to the Pennsylvania SIP pertaining to the addition of new regulations to address the requirement to adopt RACT for sources covered by EPA's CTG for automobile and light-duty truck assembly coatings. EPA will respond to the adverse comments in a separate final rulemaking action.

List of Subjects in 40 CFR Part 52

Environmental protection, Air pollution control, Incorporation by reference, Ozone, Reporting and recordkeeping requirements, Volatile organic compounds.

Dated: November 30, 2017.
Cosmo Servidio,
Regional Administrator, Region III.

Accordingly, the amendments to 40 CFR 52.2020 published on October 24, 2017 (82 FR 49128) are withdrawn as of December 13, 2017.

[FR Doc. 2017-26763 Filed 12-12-17; 8:45 am]

BILLING CODE 6560-50-P